ENVIRONMENTAL PROTECTION AGENCY

[ER-FRL-9024-8]

Environmental Impact Statements; Notice of Availability

Responsible Agency: Office of Federal Activities, General Information (202) 564-7146 or http://www2.epa.gov/nepa.

Weekly receipt of Environmental Impact Statements (EISs)

Filed 12/28/2015 Through 12/31/2015

Pursuant to 40 CFR 1506.9.

Notice

Section 309(a) of the Clean Air Act requires that EPA make public its comments on EISs issued by other Federal agencies. EPA's comment letters on EISs are available at: https://cdxnodengn.epa.gov/cdx-nepa-public/action/eis/search.

EIS No. 20150367, Final, NPS, NY, Fire Island National Seashore Final White-tailed Deer Management Plan, Review Period Ends: 02/08/2016, Contact: Morgan Elmer 303-969-2317.

EIS No. 20150368, Draft, TVA, TN, PROGRAMMATIC—Ash Impoundment Closure, Comment Period Ends: 02/24/2016, Contact: Ashley Farless 423-751-2361.

Amended Notices

EIS No. 20150304, Draft, VA, SD, NHPA Section 106 Consultation: Reconfiguration of VA Black Hills Health Care System, Comment Period Ends: 02/05/2016, Contact: Luke Epperson 605-720-7170. Revision to FR Notice Published 11/06/2015; Correction to Comment Period Ends should be 02/05/2016.

Dated: January 5, 2016.
Dawn Roberts,
Management Analyst, NEPA Compliance Division, Office of Federal Activities.

[FR Doc. 2016-00165 Filed 1-7-16; 8:45 am]

BILLING CODE 6560-50-P